DEPARTMENT OF ENERGY

Federal Energy Regulatory Commission

[Docket No. EG04-3-000]

Butte Creek Expansion, LLC; Notice of Application for Commission Determination of Exempt Wholesale Generator Status

October 14, 2003.

Take notice that on October 8, 2003, Butte Creek Expansion, LLC (Butte Creek), filed with the Federal Energy Regulatory Commission an application for determination of exempt wholesale generator status pursuant to part 365 of the Commission's regulations.

Butte Creek, a Delaware limited liability company, states that it will be engaged directly and exclusively in the business of owning all or part of one or more eligible facilities, and selling electric energy at wholesale. Butte Creek further states that it is developing an approximately 238 megawatt wind power generation facility to be located in Prowers County, Colorado and indicates that the Project will be an eligible facility pursuant to section 32(a)(2) of PUHCA.

Butte Creek states that it has served a copy of the filing on the Securities and Exchange Commission and the Public Utilities Commission of the State of Colorado.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: October 29, 2003.

Linda Mitry,
Acting Secretary.

[FR Doc. 03-29516 Filed 11-25-03; 8:45 am]

BILLING CODE 6717-01-P